DEPARTMENT OF THE INTERIOR

National Park Service

[NPS-WASO-NAGPRA-NPS0033140; PPWOCRADN0-PCU00RP14.R50000]

Notice of Inventory Completion: Fowler Museum at the University of California, Los Angeles, Los Angeles, CA

AGENCY: National Park Service, Interior.

ACTION: Notice.

SUMMARY: The Fowler Museum at the University of California, Los Angeles (Fowler Museum at UCLA) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum at the address in this notice by January 18, 2022.

FOR FURTHER INFORMATION CONTACT: Wendy Teeter, Fowler Museum at UCLA, Box 951549, Los Angeles CA 90095, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at the University of California, Los Angeles, Los Angeles, CA. The human remains and associated funerary objects were removed from site RIV-156, located east of Palm Springs in Riverside County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum professional staff in consultation with representatives of the Agua Caliente Band of Cahuilla Indians of the Agua Caliente Indian Reservation, California.

History and Description of the Remains

In 1955, human remains representing, at minimum, one individual were removed from site RIV-156 in Riverside County, CA. During a survey in Deep Canyon, east of Palm Springs, Gordon Redfeldt removed human remains and cultural materials. In the Spring of 1956, Redfeldt and Charles Rozaire donated this collection to the UCLA Archaeology Collections. No known individual was identified. The 392 associated funerary objects are 368 pieces of pottery (some of which appear to be fire affected and two are painted), four ceramic disc fragments, one hammerstone, two core tools, six scrapers, one projectile point tip, one unmodified burned carnivore mandible fragment, one unmodified burned deer metapodial, and eight unmodified burned faunal bone fragments.

Determinations Made by the Fowler Museum at the University of California, Los Angeles

Officials of the Fowler Museum at the University of California, Los Angeles have determined that:

• Pursuant to 25 U.S.C. 3001(9), the human remains described in this notice represent the physical remains of one individual of Native American ancestry.

• Pursuant to 25 U.S.C. 3001(3)(A), the 392 objects described in this notice are reasonably believed to have been placed with or near individual human remains at the time of death or later as part of the death rite or ceremony.

• Pursuant to 25 U.S.C. 3001(2), there is a relationship of shared group identity that can be reasonably traced between the Native American human remains and associated funerary objects and the Agua Caliente Band of Cahuilla Indians of the Agua Caliente Indian Reservation, California.

Additional Requestors and Disposition

Lineal descendants or representatives of any Indian Tribe or Native Hawaiian organization not identified in this notice that wish to request transfer of control of these human remains and associated funerary objects should submit a written request with information in support of the request to Wendy Teeter, Fowler Museum at UCLA, Box 951549, Los Angeles, CA 90095, telephone (310) 825-1864, email wteeter@arts.ucla.edu, by January 18, 2022. After that date, if no additional requestors have come forward, transfer of control of the human remains and associated funerary objects to the Agua Caliente Band of Cahuilla Indians of the Agua Caliente Indian Reservation, California may proceed.

The Fowler Museum at the University of California, Los Angeles is responsible for notifying the Agua Caliente Band of Cahuilla Indians of the Agua Caliente Indian Reservation, California that this notice has been published.

Dated: December 10, 2021.
Melanie O'Brien,
Manager, National NAGPRA Program.

[FR Doc. 2021-27357 Filed 12-16-21; 8:45 am]

BILLING CODE 4312-52-P